DEPARTMENT OF THE INTERIOR

Bureau of Reclamation

Draft Resource Management Plan/General Plan Draft Environmental Impact Statement/Revised Draft Environmental Impact Report for the San Luis Reservoir State Recreation Area, Merced County, California

AGENCY: Bureau of Reclamation, Interior.

ACTION: Notice of availability.

SUMMARY: The Bureau of Reclamation, as the National Environmental Policy Act Federal lead agency, and the California Department of Parks and Recreation (CDPR), as the California Environmental Quality Act State lead agency, have made available for public review and comment the San Luis Reservoir State Recreation Area Resource Management Plan/General Plan (RMP/GP) Draft Environmental Impact Statement/Revised Draft Environmental Impact Report (EIS/EIR). The Draft RMP/GP EIS/EIR describes and presents the environmental effects of the No Action/No Project Alternative and three Action Alternatives. A public meeting will be held to receive comments from individuals and organizations on the Draft RMP/GP EIS/EIR.

DATES: Submit written comments on the Draft RMP/GP EIS/EIR on or before October 2, 2012.

A public meeting has been scheduled to receive oral or written comments regarding environmental effects. The meeting will be held from 6:30 p.m. to 9:00 p.m. on August 23, 2012, in Gustine, California.

ADDRESSES: Send written comments on the Draft RMP/GP EIS/EIR to Mr. Dave Woolley, Bureau of Reclamation, 1243 N Street, Fresno, CA 93721, or by email to dwoolley@usbr.gov. Written comments also may be submitted during the public meeting.

The public meeting will be held at the San Luis Reservoir State Recreation Area Headquarters, 31426 Gonzaga Road, Gustine, CA 95322.

Copies of the Draft RMP/GP EIS/EIR may be requested from Mr. Dave Woolley, by writing to: Bureau of Reclamation, 1243 N Street, Fresno, CA 93721; by calling 559-487-5049 (TDD 559-487-5933); or by emailing dwoolley@usbr.gov. The Draft EIS/EIR is also accessible from the following Web site: http://www.usbr.gov/mp/nepa/nepa_projdetails.cfm?Project_ID=548. See the SUPPLEMENTARY INFORMATION section below for locations where copies of the Draft RMP/GP EIS/EIR are available for public review.

FOR FURTHER INFORMATION CONTACT: Mr. Dave Woolley, Bureau of Reclamation, at 559-487-5049 (TTY 1-800-735-2929) or dwoolley@usbr.gov.

SUPPLEMENTARY INFORMATION: The Draft RMP/GP EIS/EIR analyzes the direct, indirect, and cumulative effects to the physical, biological, and socioeconomic environment that may result from various resource management alternatives contained in the subject document.

The purposes of the RMP/GP EIS/EIR include: (1) Identifying the current and most appropriate future uses of land and water resources within the RMP/GP Area; (2) identifying the long-term resource programs and implementation guidelines to manage and develop recreation, natural, and cultural resources; and (3) developing strategies and approaches to protect and preserve the natural, recreational, aesthetic, and cultural resources.

The RMP/GP was initially released with a Draft EIR in 2005 for compliance with California Environmental Quality Act. The RMP/GP is being reissued with a joint Draft EIS/Revised Draft EIR for the purposes of both National Environmental Policy Act and California Environmental Quality Act compliance.

The RMP/GP area consists of over 27,000 acres owned by the Bureau of Reclamation (Reclamation) and includes the water surfaces of San Luis Reservoir, O'Neill Forebay, Los Banos Creek Reservoir, and adjacent recreation lands within the vicinity of Los Banos, California. The general project location is south of State Route 152 between U.S. 101 and Interstate 5, approximately two hours southeast from San Francisco.

The RMP/GP area is owned by Reclamation and was built as part of the water storage and delivery system of reservoirs, aqueducts, power plants, and pumping stations operated under the California State Water Project and Central Valley Project. Construction began on San Luis Reservoir in 1963 and was completed in 1967 with planned joint-use by the State Water Project and the Central Valley Project. The California Department of Parks and Recreation was given the responsibility to plan, design, construct, maintain, and operate the recreation areas surrounding the reservoirs.

The new plan will: (1) Enhance natural resources and recreational opportunities without interrupting reservoir operations; (2) provide recreational opportunities to meet the demands of a growing population with diverse interests; (3) ensure diversity of recreational opportunities and quality of the recreational experience; (4) protect natural, cultural, and recreational sources while providing resource education opportunities and stewardship; and (5) provide updated management direction for establishing a new management agreement with the State of California.

The Draft EIS/Revised Draft EIR outlines the formulation and evaluation of alternatives designed to address these issues through a representation of the varied interests at the Plan Area. The No Action/No Project Alternative (Alternative 1) would result in the continuation of current management practices. Action Alternative 2 (Limited New Access and Development) emphasizes resource protection and limited new development. Action Alternative 3 (Moderate New Access and Development) balances natural and cultural resource protection and recreation opportunities. Action Alternative 4 (Maximum New Access and Development) provides the most overall recreation facility development.

The Draft RMP/GP EIS/EIR has been developed within the authorities provided by Congress through the Reclamation Recreation Management Act of 1992 (Pub. L. 102-575, Title 28, 16 U.S.C. 460L) and other applicable agency and Department of the Interior policies.

Copies of the Draft RMP/GP EIS/EIR are available for public review at the following locations:

• Bureau of Reclamation, Mid-Pacific Region, Regional Library, 2800 Cottage Way, Sacramento, CA 95825.

• Bureau of Reclamation, South-Central California Area Office, 1243 N Street, Fresno, CA 93721.

• Four Rivers Sector Office, 31426 Gonzaga Road, Gustine, CA 95322

• Los Banos Library, 1312 South 7th Street, Los Banos, CA 93635.

• California Department of Parks and Recreation, Northern Service Center, One Capitol Mall, Suite 500, Sacramento, CA 95814.

• Bureau of Reclamation, Denver Office Library, Building 67, Room 167, Denver Federal Center, 6th and Kipling, Denver, CO 80225.

• Natural Resources Library, U.S. Department of the Interior, 1849 C Street NW., Main Interior Building, Washington, DC 20240-0001.

Public Meeting

A brief presentation, including a project overview, will open the public meeting. This will be followed by an open house during which individual concerns and questions will be addressed through interaction with the project team.

If special assistance is required at the public meeting, please contact Mr. Dave Woolley at 559-487-5049, (TTY 1-800-735-2929), or by emailing dwoolley@usbr.gov. Please notify Mr. Woolley as far in advance as possible to enable Reclamation staff enough time to secure the needed services. If a request cannot be honored, the requestor will be notified.

Public Disclosure

Before including your address, phone number, email address, or other personal identifying information in your comment, you should be aware that your entire comment—including your personal identifying information—may be made publicly available at any time. While you can ask us in your comment to withhold your personal identifying information from public review, we cannot guarantee that we will be able to do so.

Dated: May 17, 2012.
Pablo R. Arroyave,
Deputy Regional Director, Mid-Pacific Region.

[FR Doc. 2012-19021 Filed 8-2-12; 8:45 am]

BILLING CODE 4310-MN-P